DEPARTMENT OF COMMERCE

International Trade Administration

[A-533-820]

Certain Hot-Rolled Carbon Steel Flat Products From India: Notice of Extension of Time Limit for the Final Results of Antidumping Duty Administrative Review

AGENCY: Import Administration, International Trade Administration, Department of Commerce.

FOR FURTHER INFORMATION CONTACT: Christopher Hargett, AD/CVD Operations, Office 3, Import Administration, International Trade Administration, U.S. Department of Commerce, 14th Street and Constitution Ave., NW., Washington, DC 20230; telephone (202) 482-4161.

Background

On January 29, 2010, the Department published a notice of initiation of the antidumping duty administrative review of certain hot-rolled carbon steel flat products from India for the period December 1, 2008, through November 30, 2009. See Initiation of Antidumping and Countervailing Duty Administrative Reviews, Request for Revocation in Part, and Deferral of Initiation of Administrative Review, 75 FR 4770 (January 29, 2010). On September 14, 2010, in accordance with section 751(a)(3)(A) of the Tariff Act of 1930, as amended (the Act), the Department extended the deadline for the preliminary results by 120 days. See Certain Hot-Rolled Carbon Steel Flat Products from India: Extension of Time Limit for Preliminary Results of the Antidumping Duty Administrative Review, 75 FR 55742 (September 14, 2010). On January 13, 2011, the Department published in the Federal Register, the Preliminary Results of this review. See Certain Hot-Rolled Carbon Steel Flat Products From India: Notice of Preliminary Results of Antidumping Duty Administrative Review, 76 FR 2344 (January 13, 2011) (Preliminary Results). The final results of this review are currently due no later than May 13, 2011.

Extension of Time Limit of the Final Results

Section 751(a)(3)(A) of the Act, requires the Department to issue the final results of a review within 120 days after the date on which the preliminary results are published. However, if it is not practicable to complete the review within that time period, section 751(a)(3)(A) of the Act allows the Department to extend the time limit for the final results to a maximum of 180 days. See 19 CFR 351.213(h)(2).

We determine that it is not practicable to complete the final results of this review within the original time limit because the Department needs additional time to evaluate information on the record and arguments raised by parties with respect to Tata Steel Limited's single entry of subject merchandise. Therefore, the Department is fully extending the time limit for the final results to July 12, 2011, in accordance with section 751(a)(3)(A) of the Act and 19 CFR 351.213(h)(2).

This notice is published pursuant to sections 751(a)(1) and 777(i)(1) of the Act.

Dated: May 10, 2011.
Christian Marsh,
Deputy Assistant Secretary for Antidumping and Countervailing Duty Operations.

[FR Doc. 2011-12069 Filed 5-16-11; 8:45 am]

BILLING CODE 3510-DS-P